DEPARTMENT OF ENERGY

Federal Energy Regulatory Commission

[Project No. 12379-000—AK]

Lake Dorothy Hydro, Inc.; Notice of Availability of Draft Environmental Assessment

June 4, 2003.

In accordance with the National Environmental Policy Act of 1969 and the Federal Energy Regulatory Commission's (Commission) regulations, 18 CFR part 380 (Order No. 486, 52 FR 47897), Office of Energy Projects staff have reviewed the application for Lake Dorothy Hydro, Inc.'s proposed Lake Dorothy Hydroelectric Project and has prepared a Draft Environmental Assessment (DEA). The proposed project would be located at Lake Dorothy on Dorothy Creek, near Juneau, Alaska, and would occupy approximately 1,790 acres of land within the Tongass National Forest administered by the U.S. Forest Service. This DEA contains the Commission staff's analysis of the potential future environmental impacts of the project and has concluded that licensing the project, with appropriate environmental protective measures, would not constitute a major federal action that would significantly affect the quality of the human environment.

Comments on the DEA should be filed by July 3, 2003. Comments should be filed with: Magalie R. Salas, Secretary, Federal Energy Regulatory Commission, 888 First Street, NE., Washington, DC 20426. Documents may also be filed electronically via the Internet in lieu of paper. See 18 CFR 385.2001(a)(1)(iii) and the instructions on the Commission's Web site at http://www.ferc.gov under the “e-Filing” link.

Copies of the DEA can be viewed at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659.

Magalie R. Salas,
Secretary.

[FR Doc. 03-14613 Filed 6-10-03; 8:45 am]

BILLING CODE 6717-01-P